DEPARTMENT OF ENERGY

Federal Energy Regulatory Commission

[Docket No. EC05-4-000]

USGen New England, Inc., Dominion Energy New England, Inc., Dominion Energy Marketing, Inc., Dominion Energy Salem Harbor, LLC, Dominion Energy Brayton Point, LLC, Dominion Energy Manchester Street, Inc.; Notice of Filing

October 13, 2004.

Take notice that on October 8, 2004, the above-referenced Applicants submitted an application pursuant to section 203 of the Federal Power Act for authorization of a disposition of jurisdictional facilities whereby USGen New England, Inc., is selling, and Dominion Energy New England, Inc., is purchasing certain fossil generating assets in Massachusetts and Rhode Island and various wholesale power sales agreements pursuant to a cash sale. Applicants state that the generating assets and related interconnection facilities at the Salem Harbor Station, the Brayton Point Station, and the Manchester Street Station, have a combined net capacity of 2,834 MW, and will be owned by Dominion Energy Salem Harbor, LLC, Dominion Energy Brayton Point, LLC, and Dominion Energy Manchester Street, Inc., respectively. Applicants further state that the various wholesale power sales agreements will be transferred to Dominion Energy Marketing, Inc.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicants. On or before the comment date, it is not necessary to serve motions to intervene or protests on persons other than the Applicants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 29, 2004.

Linda Mitry,
Acting Secretary.

[FR Doc. E4-2936 Filed 10-29-04; 8:45 am]

BILLING CODE 6717-01-P